DEPARTMENT OF COMMERCE

National Oceanic and Atmospheric Administration

RIN 0648-XF231

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Coastal Pelagic Species Advisory Subpanel (CPSAS) will hold a meeting via webinar that is open to the public.

DATES: The CPSAS webinar will be held Friday March 3, 2017, from 10 a.m. to 12 p.m.

ADDRESSES: The meeting will be via webinar; a public listening will be held at the Pacific Council offices. Webinar access information will be posted to the Pacific Council's Web site in advance of the meeting.

Council address: Pacific Fishery Management Council, 7700 NE Ambassador Place, Suite 101, Portland, OR 97220-1384.

FOR FURTHER INFORMATION CONTACT: Kerry Griffin, Pacific Council; telephone: (503) 820-2409.

SUPPLEMENTARY INFORMATION: The purpose of the meeting is to consider and discuss ecosystem-related agenda items on the March Pacific Council meeting agenda, and consider developing supplemental CPSAS reports.

Special Accommodations

This meeting is physically accessible to people with disabilities. Requests for sign language interpretation or other auxiliary aids should be directed to Mr. Kris Kleinschmidt at (503) 820-2280 at least 10 days prior to the meeting date.

Dated: February 14, 2017.
Tracey L. Thompson,
Acting Deputy Director, Office of Sustainable Fisheries, National Marine Fisheries Service.

[FR Doc. 2017-03198 Filed 2-16-17; 8:45 am]

BILLING CODE 3510-22-P